SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) which requires agencies to submit proposed reporting and recordkeeping requirements to OMB for review and approval, and to publish a notice in the Federal Register notifying the public of that submission.

DATES: Submit comments on or before November 9, 2018.

ADDRESSES: Comments should refer to the information collection by name and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: SBA Form 2428 is used by Small Business Investment Companies (SBICs) requesting a determination of eligibility for SBA leverage in form of a deferred interest “Energy Saving Debenture” to be used only in making an “Energy Saving Qualified Investment”. Eligibility is based on whether a Small Business to be financed with leverage proceeds is “primarily engaged” in Energy Savings Activities as defined in the SBIC program regulations. An SBIC must provide supporting evidence of Small Business eligibility, and the Small Business must certify the information is true and correct.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections

Title: Financing Eligibility Statement for Usage of Energy Saving Debenture.

Description of Respondents: Small Business Investment Companies.

Form Number: SBA Form 2428.

Estimated Annual Respondents: 5.

Estimated Annual Responses: 5.

Estimated Annual Hour Burden: 50.

Curtis Rich,
Management Analyst.

[FR Doc. 2018-21975 Filed 10-9-18; 8:45 am]

BILLING CODE 8025-01-P